ENVIRONMENTAL PROTECTION AGENCY

[ER-FRL-6638-6]

Environmental Impact Statements; Notice of Availability

Responsible Agency: Office of Federal Activities, General Information (202) 564-7167 or http://www.epa.gov/compliance/nepa/.

Weekly receipt of Environmental Impact Statements filed March 10, 2003, through March 14, 2003, pursuant to 40 CFR 1506.9.

EIS No. 030097, FINAL EIS, BLM, OR, Kelsey Whisky Landscape Management Planning Area, Implementation, Associated Medford District Resource Management Plan Amendments, Josephine and Jackson Counties, OR, Wait Period Ends: April 21, 2003, Contact: Sherwood Tubman (541) 618-2399. This document is available on the Internet at: http://www.or.blm.gov/Medford.

EIS No. 030098, DRAFT EIS, AFS, CO, Missionary Ridge Burned Area Timber Salvage Project, Timber Harvesting, San Juan National Forest north of Durango, LaPlata County, CO, Comment Period Ends: May 5, 2003, Contact: David Dallison (970) 385-1253.

EIS No. 030099, DRAFT EIS, JUS, TX, Rio Grande Operation Project, Proposal to Reduce or Eliminate Illegal Drug Activity, and Illegal Immigrant, Starr, Hidalgo, Cameron Counties, TX, Comment Period Ends: May 5, 2003, Contact: Terry Roberts (409) 766-3035.

EIS No. 030100, FINAL EIS, FHW, AL, Memphis to Atlanta Corridor Study (DPS-A002(002), Proposal to Build Highway from the Mississippi/ Alabama State Line to Interstate 65, Funding and COE Section 404 Permit, Colbert, Franklin, Lauderdale, Lawrence, Limestone and Morgan Counties, AL, Wait Period Ends: April 21, 2003, Contact: Joe D. Wilkerson (334) 223-7370.

EIS No. 030101, FINAL EIS, NPS, AZ, Sunset Crater Volcano National Monument, General Management Plan, Implementation, Flagstaff Area, Coconina County, AZ, Wait Period Ends: April 21, 2003, Contact: Sam Henderson (520) 526-1157.

EIS No. 030102, FINAL EIS, NPS, AZ, Wupatki National Monument, General Management Plan, Implementation, Flagstaff Area, Coconina County, AZ, Wait Period Ends: April 21, 2003, Contact: Sam Henderson (520) 526-1157.

EIS No. 030103, DRAFT EIS, BLM, CA, Santa Rosa and San Jacinto Mountains National Monument Management Plan, Implementation, Managing Public Lands, Riverside County, CA, Comment Period Ends: June 19, 2003, Contact: Connell Dunning (760) 251-4817. This document is available on the Internet at: http://www.ca.blm. gov/palmsprings/santa_ rosa_national_ monument.htm1.

EIS No. 030104, DRAFT EIS, AFS, TN, Cherokee National Forest Revised Land and Resource Management Plan, Implementation, Carter, Cocke, Greene, Johnson, McMinn, Monroe, Polk, Sullivan and Unicoil, TN, Comment Period Ends: June 16, 2003, Contact: Terry McDonald (423) 476-9700. This document is available on the Internet at: http://www.southernregion. fs.fed.us/cherokee/planning/revisions.htm.

EIS No. 030105, DRAFT EIS, NPS, PA, Schuylkill River Valley National Heritage Area Management Plan Update, Living with the River, Proposal to Conserve, Interpret and Develop the Historical, Cultural, Natural and Recreational Resources, Schuylkill, Berks, Chester, Montgomery and Philadelphia Counties, PA, Comment Period Ends: May 5, 2003, Contact: Peter Samuel (215) 597-1848.

EIS No. 030106, DRAFT EIS, AFS, VA, KY, WV, Jefferson National Forest Revised Land and Resource Management Plan, Implementation, Mount Rogers National Recreation Area, Clinch, Glenwood, New Castle, and New River Valley Rangers Districts, VA, WV and KY, Comment Period Ends: June 19, 2003, Contact: Nancy Ross (540) 265-5172.

EIS No. 030107, FINAL EIS, AFS, MT, Bitterroot National Forest Noxious Weed Treatment Project, Ground and Aerial Herbicides Application, Mechanical, Biological and Cultural Weed Treatment and Public Awareness Measures, Implementation, Stevensville Ranger District, Bitterroot National Forest, Ravalli County, MT, Wait Period Ends: April 21, 2003, Contact: Don Stadler (406) 777-5461. This document is available on the Internet at: http://www.fs.fed.us/r1/ bitterroot/planning/ decisiondocs/ decisiondocs.htm1.

EIS No. 030108, FINAL EIS, GSA, WI, Badger Army Ammunition Plant, Property Disposal, Implementation, Townships of Sumpter and Merrimac, Sauk County, WI, Wait Period Ends: April 21, 2003, Contact: Mark N. Lundgren (312) 353-0302.

EIS No. 030109, DRAFT SUPPLEMENT, AFS, ID, Middle Fork Weiser River Watershed Project, Reviewing and Updating Information on the Pileated Woodpecker and Soil Impacts, Payette National Forest, Council Ranger District, Adams County, ID, Comment Period Ends: May 5, 2003, Contact: Curt Spalding (208) 634-0796.

EIS No. 030110, DRAFT SUPPLEMENT, AFS, ID, Sloan-Kennally Timber Sale Project, Reviewing and Updating Information on the Pileated Woodpecker and Soil Impacts, Payette National Forest, McCall Ranger District, Adams County, ID, Comment Period Ends: May 5, 2003, Contact: Curt Spalding (208) 634-0796.

EIS No. 030111, DRAFT SUPPLEMENT, AFS, ID, Little Weiser Landscape Vegetation Management Project, Reviewing and Updating Information on the Pileated Woodpecker and Soil Impacts, Payette National Forest, Adams County, ID, Comment Period Ends: May 5, 2003, Contact: Curt Spalding (208) 634-0796.

EIS No. 030112, DRAFT SUPPLEMENT, AFS, ID, Goose Creek Watershed Project, Reviewing and Updating Information on the Pileated Woodpecker and Soil Impacts, Payette National Forest, New Meadows Ranger District, Adams County, ID, Comment Period Ends: May 5, 2003, Contact: Curt Spalding (208) 634-0796.

EIS No. 030113, DRAFT SUPPLEMENT, AFS, ID, Brown Creek Timber Sale Project, Reviewing and Updating Information on the Pileated Woodpecker and Soil Impacts, Payette National Forest, New Meadow Ranger District, Adams County, ID, Comment Period Ends: May 5, 2003, Contact: Curt Spalding (208) 634-0796.

EIS No. 030114, DRAFT EIS, NPS, AK, Glacier Bay National Park and Preserve Vessel Quotas and Operating Requirements for Cruise Ships and Tour, Charter, and Private Vessels, Implementation, AK, Comment Period Ends: May 20, 2003, Contact: Nancy Swanton (907) 257-2651. This document is available on the Internet at: http://www.nps.gov/glba.

EIS No. 030115, FINAL EIS, FRC, CA, Pit 3, 4, 5 Hydroelectric Project, (FERC No. 233-081), Application for New License, Pit River, Shasta-Trinity National Forest, Shasta County, CA, Wait Period Ends: May 5, 2003, Contact: John Mudre (202) 502-8902.

EIS No. 030116, DRAFT EIS, COE, CA, Lower Cache Creek Flood Damage Reduction Project, Implementation, City of Woodland and Vicinity, Yolo County, CA, Comment Period Ends: May 5, 2003, Contact: Karen Enstrom (916) 574-0372.

EIS No. 030117, FINAL EIS, NRS, MO, Little Otter Creek Watershed Plan, Installation of One Multi-Purpose Reservoir and Development of Basic Facilities for Recreational Use, Implementation, Caldwell County, MO, Wait Period Ends: April 21, 2003, Contact: Roger Hansen (573) 876-0901.

EIS No. 030118, DRAFT EIS, FTA, CO, West Corridor Project, Transportation Improvements in the Cities of Denver, Lakewood and Golden, Light Rail Transit (LRT), Jefferson County, CO, Comment Period Ends: May 5, 2003, Contact: David Hollis (303) 638-9000.

Amended Notices

EIS No. 030015, DRAFT EIS, BLM, AK, Northwest National Petroleum Reserve-Alaska (NPR-A) Integrated Plan, Multiple-Use Management of 8.8 million Acres, Lands within the North Slope Borough, AK, Comment Period Ends: April 2, 2003, Contact: Curtis Wilson (907) 271-5546. Revision of FR Notice Published on 1/17/2003: CEQ Comment Period Ending 3/18/2003 has been Extended to 4/2/2003.

EIS No. 030089, FINAL EIS, COE, TX, North Padre Island Storm Damage Reduction and Environmental Restoration Project, Construction of a Channel between the Laquna Madre and the Gulf of Mexico across North Padre Island referred to as Packery Channel Project, Nueces County, TX, Wait Period Ends: April 14, 2003, Contact: Carolyn Murphy (409) 766-3044. Revision of FR Notice Published on 3/14/2003: Correction to the State from IL to TX.

Dated: March 18, 2003.
Joseph C. Montgomery,
Director, NEPA Compliance Division, Office of Federal Activities.

[FR Doc. 03-6803 Filed 3-20-03; 8:45 am]

BILLING CODE 6560-50-P